DEPARTMENT OF ENERGY

Federal Energy Regulatory Commission

Combined Notice of Filings

Take notice that the Commission has received the following Natural Gas Pipeline Rate and Refund Report filings:

Filings Instituting Proceedings

Docket Numbers: RP22-702-000.

Applicants: Northern Border Pipeline Company.

Description: Sec. 4(d) Rate Filing: Sequent Energy Management, LLC Name Change Clean up to be effective 3/15/2022.

Filed Date: 3/15/22.

Accession Number: 20220315-5155.

Comment Date: 5 p.m. ET 3/28/22.

Docket Numbers: RP22-703-000.

Applicants: Elba Express Company, L.L.C.

Description: Compliance filing: Annual Interruptible Revenue Crediting Report 2022 to be effective N/A.

Filed Date: 3/16/22.

Accession Number: 20220316-5009.

Comment Date: 5 p.m. ET 3/28/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-1022-002.

Applicants: Colorado Interstate Gas Company, L.L.C.

Description: Compliance filing: Second Petition to Amend Docket No. RP16-1022 Stipulation and Agreement to be effective N/A.

Filed Date: 3/15/22.

Accession Number: 20220315-5176.

Comment Date: 5 p.m. ET 3/22/22.

Docket Numbers: RP17-972-003.

Applicants: Wyoming Interstate Company, L.L.C.

Description: Wyoming Interstate Company, L.L.C. submits tariff filing per 154.203: Second Petition to Amend Docket No. RP17-972 Stipulation and Agreement to be effective N/A.

Filed Date: 3/15/22.

Accession Number: 20220315-5181.

Comment Date: 5 p.m. ET 3/22/22.

Docket Numbers: RP19-276-003.

Applicants: Young Gas Storage Company, Ltd.

Description: Young Gas Storage Company, Ltd. submits tariff filing per 154.203: Second Petition to Amend Docket No. RP19-276 Stipulation and Agreement to be effective N/A.

Filed Date: 3/15/22.

Accession Number: 20220315-5177.

Comment Date: 5 p.m. ET 3/22/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at https://www.ferc.gov/docs-filing/efiling/filing-req.pdf. For other information, call (866) 208-3676 (toll free). For TTY, call (202) 502-8659.

Dated: March 16, 2022.
Debbie-Anne A. Reese,
Deputy Secretary.

[FR Doc. 2022-06026 Filed 3-21-22; 8:45 am]

BILLING CODE 6717-01-P